DEPARTMENT OF COMMERCE

International Trade Administration

[A-570-890]

Wooden Bedroom Furniture From the People's Republic of China: Final Results and Final Rescission, In Part, of Administrative Review and Final Results of New Shipper Review; 2013

AGENCY: Enforcement and Compliance, International Trade Administration, Department of Commerce.

SUMMARY: On February 11, 2015, the Department of Commerce (the “Department”) published the preliminary results of a new shipper review (“NSR”) and the ninth administrative review (“AR”) of the antidumping duty order on wooden bedroom furniture (“WBF”) from the People's Republic of China (“PRC”), in accordance with sections 751(a)(1)(B) and 751(a)(2)(B) of the Tariff Act of 1930, as amended (“the Act”).¹ The period of review (“POR”) is January 1, 2013, through December 31, 2013. The AR covers 28 PRC exporters of subject merchandise, of which the Department selected one company for individual examination, Jiedong Lehouse Furniture Co., Ltd. (“Jiedong Lehouse”). The NSR covers one exporter-producer of subject merchandise: Wuxi Yushea Furniture Co., Ltd. (“Wuxi Yushea”). The Department invited interested parties to comment on the Preliminary Results. We received comments from the American Furniture Manufactures Committee for Legal Trade and Vaughan-Bassett Furniture Company, Inc. (“Petitioners”) which agreed with our Preliminary Results in the administrative review. No other party commented. Accordingly, our final results remain unchanged from the Preliminary Results.

¹ See Wooden Bedroom Furniture From the People's Republic of China: Preliminary Results of Antidumping Duty Administrative Review and New Shipper Reviews; 2013, 80 FR 7576 (February 11, 2015) (“Preliminary Results”).

DATES: Effective Date: June 17, 2015.

FOR FURTHER INFORMATION CONTACT: Patrick O'Connor, AD/CVD Operations, Office IV, Enforcement and Compliance, International Trade Administration, U.S. Department of Commerce, 14th Street and Constitution Avenue NW., Washington, DC 20230; telephone: (202) 482-0989.

SUPPLEMENTARY INFORMATION:

Background

As noted above, on February 11, 2015, the Department published the Preliminary Results of the NSR and AR of the antidumping duty order on WBF from the PRC covering the period January 1, 2013, through December 31, 2013. On March 13, 2015, Petitioners filed briefs in the AR. No other parties submitted comments on the Preliminary Results in the AR or the NSR.

Scope of the Order

The product covered by the order is wooden bedroom furniture, subject to certain exceptions.² Imports of subject merchandise are classified under the Harmonized Tariff Schedule of the United States (“HTSUS”) subheadings: 9403.50.9042, 9403.50.9045, 9403.50.9080, 9403.50.9042, 9403.50.9045, 9403.60.8081, 7009.92.1000 or 7009.92.5000. Although the HTSUS subheadings are provided for convenience and customs purposes, the written product description in the Order remains dispositive.³

² See Notice of Amended Final Determination of Sales at Less Than Fair Value and Antidumping Duty Order: Wooden Bedroom Furniture From the People's Republic of China, 70 FR 329 (January 4, 2005) (“Order”).

³ For a complete description of the scope of the order, see the memorandum from Christian Marsh, Deputy Assistant Secretary for Antidumping and Countervailing Duty Operations, to Paul Piquado, Assistant Secretary for Enforcement and Compliance, “Wooden Bedroom Furniture from the People's Republic of China: Issues and Decision Memorandum for the Final Results of the 2013 Administrative Review and New Shipper Review” (“Issues and Decision Memorandum”).

Analysis of the Comments Received

The issues raised in Petitioners' case brief are addressed in the Issues and Decision Memorandum which is dated concurrently with, and hereby adopted by, this notice. A list of the issues addressed in the Issues and Decision Memorandum is appended to this notice. The Issues and Decision Memorandum is a public document and is on file electronically via Enforcement and Compliance's Antidumping and Countervailing Duty Centralized Electronic Services System (“ACCESS). ACCESS is available to registered users at http://access.trade.gov and it is available to all parties in the Central Records Unit of the main Department building, Room 7046. In addition, a complete version of the Issues and Decision Memorandum can be accessed directly on the internet at http://enforcement.trade.gov/frn/index.html. The signed Issues and Decision Memorandum and electronic version of the Issues and Decision Memorandum are identical in content.

Final Rescission, In Part

In the Preliminary Results, the Department determined that 16 companies under review in the AR, including Jiedong Lehouse, the company that the Department selected as a mandatory respondent, did not establish their eligibility for separate rate status and will be treated as part of the PRC-wide entity.⁴ Because no party requested a review of the PRC-wide entity, we will rescind the AR with respect to these 16 companies, including Jiedong Lehouse, as part of the PRC-wide entity.⁵ Further, we will instruct U.S. Customs and Border Protection (“CBP”) to liquidate entries for these companies at the PRC-wide entity rate, which is 216.01 percent.

⁴ See Preliminary Results at 80 FR 7576. The 16 companies that did not establish their eligibility for a separate rate are: (1) Art Heritage International, Ltd., Super Art Furniture Co., Ltd., Artwork Metal & Plastic Co., Ltd., Jibson Industries Ltd., Always Loyal International; (2) Cheng Meng Furniture (Pte) Ltd., Cheng Meng Decoration & Furniture (Suzhou) Co., Ltd.; (3) Coe., Ltd.; (4) Dalian Huafeng Furniture Co., Ltd.; (5) Dalian Huafeng Furniture Group Co., Ltd.; (6) Dongguan Hung Sheng Artware Products Co., Ltd., Coronal Enterprise Co., Ltd.; (7) Dongguan Yujia Furniture Co., Ltd./Dongguan Yujia Furniture Co., Ltd.; (8) Liang Huang (Jiaxing) Enterprise Co., Ltd.; (9) Marvin Furniture (Shanghai) Co. Ltd.; (10) Prime Best Factory; (11) Prime Best International Co., Ltd.; (12) Prime Wood International Co., Ltd; (13) Sen Yeong International Co., Ltd., Sheh Hau International Trading Ltd.; (14) Strongson Furniture (Shenzhen) Co., Ltd., Strongson Furniture Co., Ltd., Strongson (Hk) Co.; (15) Zhang Zhou Sanlong Wood Product Co., Ltd.; and (16) Jiedong Lehouse Furniture Co., Ltd. See also Comment 1 of the Issues and Decision Memorandum.

⁵ See Antidumping Proceedings: Announcement of Change in Department Practice for Respondent Selection in Antidumping Duty Proceedings and Conditional Review of the Nonmarket Economy Entity in NME Antidumping Duty Proceedings, 78 FR 65963, 65969-70 (November 4, 2013).

Final Determination of No Shipments

In the Preliminary Results, we determined that 12 companies subject to this AR did not have any reviewable transactions during the POR.⁶ We did not receive any comments concerning our finding of no shipments by these 12 companies. In these final results, we continue to determine that these 12 companies had no reviewable transactions of subject merchandise during the POR.

⁶ See Preliminary Results and accompanying Decision Memorandum at 6-7. Those 12 companies with no shipments during the POR are: (1) Baigou Crafts Factory Of Fengkai; (2) Clearwise Company Limited; (3) Dongguan Chengcheng Furniture Co., Ltd./Dongguan Chengcheng Furniture Co., Ltd.; (4) Dongguan Singways Furniture Co., Ltd.; (5) Eurosa (Kunshan) Co., Ltd., Eurosa Furniture Co., (Pte) Ltd.; (6) Golden Well International (HK) Ltd./Zhangzhou XYM Furniture Product Co., Ltd.; (7) Hangzhou Cadman Trading Co., Ltd./Haining Changbei Furniture Co., Ltd.; (8) Hualing Furniture (China) Co., Ltd., Tony House Manufacture (China) Co., Ltd., Buysell Investments Ltd., Tony House Industries Co., Ltd.; (9) Rizhao Sanmu Woodworking Co., Ltd.; (10) Shenyang Shining Dongxing Furniture Co., Ltd.; (11) Yeh Brothers World Trade, Inc.; and (12) Zhejiang Tianyi Scientific & Educational Equipment Co., Ltd./Zhejiang Tianyi Scientific & Educational Equipment Co., Ltd.

Final Results of the 2013 New Shipper Review

The Department has determined that the following dumping margin exists for the exporter-producer combination listed below for the period January 1, 2013, through December 31, 2013:

Exporter | Producer | Weighted-average dumping margin (percent)
Wuxi Yushea Furniture Co., Ltd | Wuxi Yushea Furniture Co., Ltd | 0.00

Assessment Rates

Pursuant to section 751(a)(2)(C) of the Act, and 19 CFR 351.212(b), the Department has determined, and CBP shall assess, antidumping duties on all appropriate entries of subject merchandise in accordance with the final results of these reviews. The Department intends to issue assessment instructions to CBP 15 days after the publication date of these final results of reviews. For Wuxi Yushea, whose weighted average dumping margin is zero, the Department will instruct CBP to liquidate appropriate entries without regard to antidumping duties.⁷ We intend to instruct CBP to liquidate entries of subject merchandise exported by the PRC-wide entity at the PRC-wide rate.

⁷ See 19 CFR 351.212(b)(1).

If the Department determines that an exporter under review had no shipments of subject merchandise, any suspended entries that entered under that exporter's case number will be liquidated at the PRC-wide rate.⁸

⁸ For a full discussion of this practice, see Non-Market Economy Antidumping Proceedings: Assessment of Antidumping Duties, 76 FR 65694 (October 24, 2011).

Cash Deposit Requirements

The following cash deposit requirements will be effective upon publication of the final results of these reviews for shipments of the subject merchandise from the PRC entered, or withdrawn from warehouse, for consumption on or after the publication date in the Federal Register of the final results of review, as provided by section 751(a)(2)(C) of the Act: (1) With respect to Wuxi Yushea, the new shipper respondent, the Department established a combination cash deposit rate for this company, consistent with its practice, as follows: (1) For subject merchandise produced and exported by Wuxi Yushea, a zero cash deposit will be required. For subject merchandise exported by Wuxi Yushea, but not produced by Wuxi Yushea, the cash deposit rate will be the rate for the PRC-wide entity. For subject merchandise produced by Wuxi Yushea, but not exported by Wuxi Yushea, the cash deposit rate will be the rate applicable to the exporter; (2) For previously investigated or reviewed PRC and non-PRC exporters named above that did not have any reviewable transactions during the POR that received a separate rate in a prior segment of this proceeding, the cash deposit rate will continue to be the existing exporter-specific rate; (3) For all PRC exporters of subject merchandise that have not been found to be entitled to a separate rate, the cash deposit rate will be the rate for the PRC-wide entity, which is 216.01 percent; (4) For all non-PRC exporters of subject merchandise which have not received their own rate, the cash deposit rate will be the rate applicable to the PRC exporter that supplied that non-PRC exporter.

These deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Administrative Protective Order

This notice also serves as a reminder to parties subject to administrative protective order (“APO”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

These final results of reviews are issued and published in accordance with sections 751(a)(1), 751(a)(2)(B), and 777(i) of the Act and 19 CFR 351.213, 351.214.

Dated: June 10, 2015.
Paul Piquado,
Assistant Secretary, for Enforcement and Compliance.

Appendix

Summary

Background

Scope of the Order

Discussion of the Issues

Comment 1: Whether Jiedong Lehouse has Demonstrated Eligibility for Separate Rate Status

Recommendation

[FR Doc. 2015-14967 Filed 6-16-15; 8:45 am]

BILLING CODE 3510-DS-P